DEPARTMENT OF COMMERCE

Submission for OMB Review; Comment Request

The Department of Commerce will submit to the Office of Management and Budget (OMB) for clearance the following proposal for collection of information under the provisions of the Paperwork Reduction Act (44 U.S.C. Chapter 35).

Agency: National Oceanic and Atmospheric Administration (NOAA).

Title: Foreign Fishing Vessel and Gear Identification Requirements.

OMB Control Number: 0648-0356.

Form Number(s): None.

Type of Request: Regular submission.

Burden Hours: 6.

Number of Respondents: 8.

Average Hours per Response: 45 minutes for vessel identification and a one-hour placeholder for gear marking.

Needs and Uses: Under provisions of Section 204 of the Magnuson-Stevens Fishery Conservation and Management Act, foreign fishing vessels may be authorized to conduct fishing activities in United States waters. The authorized vessels are required to display vessel identification and to mark any fishing gear not physically and continuously attached to the vessel. This requirement allows enforcement personnel to monitor fishing, at-sea processing, and other related activities to ascertain whether a vessel's observed activities are in accordance with those authorized for that vessel.

Affected Public: Business or other for-profit organizations.

Frequency: Annually.

Respondent's Obligation: Mandatory.

OMB Desk Officer: David Rostker, (202) 395-3897.

Copies of the above information collection proposal can be obtained by calling or writing Diana Hynek, Departmental Paperwork Clearance Officer, (202) 482-0266, Department of Commerce, Room 6625, 14th and Constitution Avenue, NW., Washington, DC 20230 (or via the Internet at dHynek@doc.gov).

Written comments and recommendations for the proposed information collection should be sent within 30 days of publication of this notice to David Rostker, OMB Desk Officer, FAX number (202) 395-7285, or David_Rostker@omb.eop.gov.

Dated: June 19, 2008.
Gwellnar Banks,
Management Analyst, Office of the Chief Information Officer.

[FR Doc. E8-14245 Filed 6-23-08; 8:45 am]

BILLING CODE 3510-22-P